DEPARTMENT OF THE TREASURY

Internal Revenue Service

Privacy Act of 1974, System of Records

AGENCY: Internal Revenue Service, Treasury.

ACTION: Notice of proposed new system of records.

SUMMARY: In accordance with the requirements of the Privacy Act of 1974, as amended, 5 U.S.C. 552a, the Department of the Treasury gives notice of a proposed IRS system of records, Disclosure Authorizations for U.S. Residency Certification Letters—Treasury/IRS 22.028.

DATES: Comments must be received no later than April 5, 2000. The proposed system of records will be effective April 17, 2000 unless comments are received that result in a contrary determination.

ADDRESSES: Comments should be sent to the IRS Freedom of Information Reading Room, 1621, at 1111 Constitution Avenue, Washington, DC 20224. Comments will be made available for inspection and copying. An appointment for inspecting the comments can be made by contacting the IRS Reading Room at (202) 622-5164 (this is not a toll-free call).

FOR FURTHER INFORMATION CONTACT: Beth Ann Leshinski, Chief, International and Domestic Program Support at 215-516-7544.

SUPPLEMENTARY INFORMATION: The IRS is establishing the Disclosure Authorizations for U.S. Residency Certification system of records to maintain the taxpayer's authorization granting the IRS permission to send the U.S. residency certification or rejection letter to their designated third party (generally a financial institution authorized by the taxpayer). Since parts of this system are retrieved by individual identifier, the Privacy Act of 1974, as amended, requires a general notice of the existence of this system of records to the public.

This system will incorporate stringent controls to ensure full protection of the taxpayer's rights. The establishment of this system will save time, promote efficiencies within the IRS, and provide greater service to the public since it will reduce the flow of paper between the IRS, the financial community, and the taxpayer.

The IRS will maintain these authorizations to allow them to be used for up to 3 years instead of being discarded each time they are used. This would greatly reduce the number of “specific purpose” authorizations by the taxpayer as they pertain to the residency certification letters. Currently, the authorizations must be received within 60 days of the taxpayer's signature. The taxpayer can designate authorization up to 3 years on the form, but the IRS does not have any means to maintain this information. Since there is no established system of records that enables the IRS to maintain “specific purpose” authorizations, we are restricted in our ability to process the third-party requests without receiving a newly signed authorization yearly.

The proposed IRS system of records, “Disclosure Authorizations for U.S. Residency Certification Letters—Treasury/IRS 22.028,” is published in its entirety below.

Dated: February 28, 2000,
Shelia Y. McCann,
Deputy Assistant Secretary, (Administration).

Treasury/IRS 22.028

System Name

Disclosure Authorizations for U.S. Residency Certification Letters.

System Location

Internal Revenue Service, Northeast Region, Philadelphia Service Center, 11601 Roosevelt Boulevard, Philadelphia, PA 19154.

Categories of Individuals Covered by the System

Individuals and third parties who are subjects of correspondence and who initiate correspondence for disclosure authorizations for U.S. Residency Certification Letters. The correspondence may include any form of communications, including telephone calls, and e-mail.

Categories of Records in the System

Records relating to the entity requesting certification, including taxpayer identification number, name and address, countries for which certification has been requested, and when applicable, business activity code; records relating to the designated entity authorized to receive tax information specific to the U.S. Residency Certification Letters, name, address, and number of years authorization has been granted.

AUTHORITY for Maintenance of the System

5 U.S.C. 301; 26 U.S.C. 7801 & 7802.

Purpose(s)

The records will enable the IRS to determine if there is a valid disclosure authorization to provide a third party with the Residency Certification Letter (Form 6166, Form 2297 or Form 2298) or related taxpayer information.

Routine Uses of the Records Maintained in the System, Including Categories of Users and the Purposes of Such Uses

Disclosure of returns and return information may only be made as provided by 26 U.S.C. 6103.

Policies and Practices for Storing, Retrieving, Accessing, Retaining, and Disposing of Records in the System

Storage

Electronic media, and/or hard copy media (paper).

Retrievability

Records may be retrieved by the taxpayer's name, authorized individual or company name, and by the Taxpayer Identification Number (TIN).

Safeguards

Protection and control of the records are in accordance with the requirements of IRM 2(10), the Automated Security System Security Handbook, and IRM 1(16)12.

Retention and Disposal

Records are maintained in accordance with Records Control Schedule 206 for Service Centers, IRM 1(15)59.26. Records will be maintained up to 3 years. Hard copy and microfilm media will be disposed by shredding or incineration. Electronic media will be erased electronically.

System Manager(s) and Addresses

Director, Philadelphia Service Center, Internal Revenue Service, Northeast Region, Philadelphia Service Center, 11601 Roosevelt Boulevard, Philadelphia, PA 19154.

Notification Procedure

Individuals seeking to determine if this system of records contains a record pertaining to themselves may inquire in accordance with instructions appearing at 31 CFR part 1, subpart C, appendix B.

Record Access PRocedures

Individuals seeking access to any record contained in this system of records, or seeking to contest its content, may inquire in accordance with instructions appearing at 31 CFR part 1, subpart C, appendix B. Inquiries should be addressed to the Philadelphia Service Center Director. (See IRS appendix A for addresses.)

Contesting Record Procedures

See record access procedures above. 26 U.S.C. 7852(e) prohibits Privacy Act amendment of tax records.

Record Source Categories

Information supplied by the initiators of the correspondence.

Exemptions Claimed for the System

None.

[FR Doc. 00-5365 Filed 3-3-00; 8:45 am]

BILLING CODE 4830-01-P